COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds products and services to the Procurement List that will be provided by nonprofit agencies employing persons who are blind or have other severe disabilities, and deletes products from the Procurement List previously furnished by such agencies.

DATES: Effective Date: 9/15/2014.

ADDRESSES: Committee for Purchase From People Who Are Blind or Severely Disabled, 1401 S. Clark Street, Suite 10800, Arlington, Virginia 22202-4149.

FOR FURTHER INFORMATION CONTACT: Barry Lineback, Telephone: (703) 603-7740, Fax: (703) 603-0655, or email CMTEFedReg@AbilityOne.gov.

SUPPLEMENTARY INFORMATION:

Additions

On 5/30/2014 (79 FR 31095-31096); 6/13/2014 (79 FR 33911-33912); and 6/20/2014 (79 FR 35320), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will provide the products and services to the Government.

2. The action will result in authorizing small entities to provide the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

Socket Set

NSN: 5120-00-NIB-0111—¼ Drive Shallow, SAE 6 and 12 Point Fasteners, 10 Pieces

NSN: 5120-00-NIB-0112—¼ Drive Deep, SAE 6 and 12 Point Fasteners, 10 Pieces

NSN: 5120-00-NIB-0113—Combination, ¼ Drive Shallow, SAE 6 and 12 Point Fasteners, 14 Pieces

NSN: 5120-00-NIB-0114—⅜ Drive Shallow, SAE 12 Point Fasteners, 11 Pieces

NSN: 5120-00-NIB-0115—⅜ Drive Deep, SAE 12 Point Fasteners, 13 Pieces

NSN: 5120-00-NIB-0116—Combination, ⅜ Shallow, SAE 12 Point Fasteners, 18 Pieces

NSN: 5120-00-NIB-0117—½ Drive Shallow, SAE 6 and 12 Point Fasteners, 13 Pieces

NSN: 5120-00-NIB-0118—½ Drive Deep, SAE 12 Point Fasteners, 13 Pieces

NSN: 5120-00-NIB-0119—Combination, ½ Drive Shallow, SAE 12 Point Fasteners, 17 Pieces

NPA: Wiscraft, Inc., Milwaukee, WI

Contracting Activity: General Services Administration, Kansas City, MO

Coverage: B-List for the Broad Government Requirement as aggregated by the General Services Administration, Kansas City, MO.

Services

Service Type/Location: Warehouse & Supply Support Service, Space and Naval Warfare Systems Center Atlantic, One Innovation Dr., Bldg. 3147 North Charleston, SC

NPA: Goodwill Services, Inc., Richmond, VA

Contracting Activity: Dept of the Navy, SPAWAR Systems Center Atlantic, North Charleston, SC

Service Type/Location: IT Service Desk Support Service, USDA Forest Service, 101B Sun Avenue NE., Suite 200, Albuquerque, NM

NPA: Peckham Vocational Industries, Inc., Lansing, MI

Contracting Activity: Department of Agriculture Forest Service, WO-AQM IT Support, Albuquerque, NM

Comments: Comments were received from an AbilityOne nonprofit agency (NPA) that provides home-based employment for people with severe disabilities (hereafter “home-based NPA”). The home-based NPA was among the AbilityOne NPAs considered to provide the IT Service Desk Support service to USDA. However, the central nonprofit agency (CNA) that is required to propose projects, along with qualified and capable NPAs to perform the projects, to the Committee for Procurement List (PL) consideration, did not recommend the home-based NPA to perform the subject service.

The home-based NPA's comments focused on the CNA's procedures for evaluating its NPAs when making recommendations to the Committee of suitable projects for the government to procure from qualified nonprofit agencies. The home-based NPA asserts the CNA's evaluation of its NPA and the subsequent recommendation were flawed since the CNA did not consider which NPA would maximize employment for people with severe disabilities. The home-based NPA also states that the CNA recommendation is not sufficient to support a government contract award decision and the review and recommendation was based on stale information that did not include the fact that the home-based NPA is currently performing these services for USDA. The home-based NPA also stated that it appealed the CNA recommendation through program channels; however, the appeal was not properly evaluated by the CNA and Committee staff. Therefore, the home-based NPA asserts that the recommendation should not be relied upon by the Committee.

The Javits-Wagner-O'Day (JWOD) Act authorized the Committee to establish rules and regulations to administer the AbilityOne Program and directs the Committee to designate CNAs to assist in the program. Committee regulations require the CNAs to evaluate the qualifications and capabilities of the NPAs they represent in the AbilityOne Program. Committee regulations and policy also establish criteria and procedures that are used when considering products and services for addition to the PL and in determining which of the approximately 600 qualified NPAs will be designated to perform specific projects added to the PL.

In this instance, the CNA recommended that the IT Service Desk Support service be considered for addition to the PL. The CNA also recommended a qualified AbilityOne NPA to perform the service for USDA; however, it was not the home-based NPA. The home-based NPA did not agree with the CNA recommendation and twice appealed the decision through the established AbilityOne Program procedures. The Committee ED conducted remanded the CNA's first selection for recommendation back to SourceAmerica for corrective action. The corrective action required a second review process with new proposal submissions and a new and independent SourceAmerica review team. The second review team results and CNA recommendation was appealed by the home-based NPA. On review of the new NTI appeal the Commission ED concluded that the CNA followed and documented its process as required; therefore, there was no change or corrective action to the CNA recommendation of the NPA to perform the service. The CNA was then able to submit the Call Center PL addition for consideration of the Commission.

The Committee does not subscribe to the commenter's suggestion that products and services added to the PL must be furnished by the AbilityOne nonprofit agency that will maximize employment for people who are blind or severely disabled. Neither the JWOD Act nor the implementing regulations impose that as a requirement determining what nonprofit will provide the PL service. The JWOD Act requires all qualified nonprofit agencies to employ persons who are blind or significantly disabled on an annual basis for not less than 75% of the direct labor hours required to furnish products or services. To be considered suitable, Committee regulations require every AbilityOne product or service to meet the Federal customer's requirement and standards, as well as provide employment potential for people who are significantly disabled. The vision of the AbilityOne Program is to enable each person with a disability to maximize his or her employment potential. None of these guidelines impose a measure of maximizing employment on a project level, which, if not balanced, could lead to inefficiencies or suboptimal solutions that are not in the best interest of the Government.

The home-based NPA's comment that the CNA recommendation is not sufficient to support a government contract award misstates the facts. The Committee determines which products and services are suitable for addition to the PL and designates which NPA will furnish the product or service to the government. The Committee does not award contracts to NPAs after items are added to the PL, nor does the CNA recommendation dictate the Committee's decision. The government contract award is made by the appropriate contracting activity and is authorized by the PL addition in accordance with the JWOD Act.

The home-based NPA also asserts that the CNA recommendation was based on stale information, since the CNA evaluation did not consider that the home-based NPA is currently performing contact center services for USDA. The home-based NPA's comments state it is the incumbent. The Committee finds that the home-based NPA does not have a contract with the USDA for the Call Center, but a modest subcontract with the current commercial provider (IBM). Such commercial subcontracts are not evaluated by the Committee, as there is no requirement that commercial contracts meet JWOD Act standards. The home-based NPA established the subcontract after it was not recommended by the CNA to furnish the service. Prime contractors, not their subcontractors; have a contractual relationship with the government and primes are the incumbent. Therefore, the existence of a subcontract does not confer a priority over nonprofit agencies recommended to be the prime contractors through the established CNA process.

Having fully considered all appropriate information, including information submitted by the CNA as required by Committee regulations, the Committee is satisfied that the IT Service Desk Support service is suitable for procurement by the Government and that the AbilityOne nonprofit agency designated by the Committee to perform the service is qualified and capable.

Deletions

On 7/11/2014 (79 FR 40066-40067), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN: 2510-01-251-8548—Blanket, Insulation, Thermal, Vehicular.

NSN: 2510-01-251-9995—Panel, Insulation, Vehicular, Interior Left Hand Front Tunnel.

NSN: 2510-01-335-7363—Panel, Insulation, Vehicular, Interior Right Hand Front Tunnel.

NSN: 2510-01-421-8067—Panel, Insulation, Vehicular, Cab.

NPA: New York City Industries for the Blind, Inc., Brooklyn, NY.

Contracting Activity: Defense Logistics Agency Land and Maritime, Columbus, OH.

Label, Pressure-Sensitive Adhesive

NSN: 7530-00-577-4368.

NSN: 7530-00-577-4369.

NSN: 7530-00-577-4370.

NSN: 7530-00-577-4371.

NSN: 7530-00-577-4372.

NSN: 7530-00-577-4376.

NSN: 7530-00-982-0062.

NSN: 7530-00-982-0064.

NSN: 7530-00-982-0065.

NSN: 7530-00-982-0066.

NPA: North Central Sight Services, Inc., Williamsport, PA.

Contracting Activity: General Services Administration, New York, NY.

NSN: 8465-00-118-4956—Cover, Canteen, Water, Natural, 1 qt.

NPA: Lions Industries for the Blind, Inc., Kinston, NC.

Contracting Activity: Defense Logistics Agency Troop Support, Philadelphia, PA.

Patricia Briscoe,
Deputy Director, Business Operations (Pricing and Information Management).

[FR Doc. 2014-19397 Filed 8-14-14; 8:45 am]

BILLING CODE 6353-01-P